DEPARTMENT OF ENERGY

10 CFR Part 430

[Docket No. EERE-2008-BT-STD-0005]

RIN 1904-AB57

Energy Conservation Program: Energy Conservation Standards for Certain External Power Supplies; Correction

AGENCY: Department of Energy.

ACTION: Final rule; technical amendment.

SUMMARY: The Department of Energy (DOE) is publishing this correction to its regulations pertaining to the energy conservation standards for certain external power supplies to re-insert a table that had been inadvertently deleted by a technical amendment published on September 19, 2011. That table contained the statutorily-prescribed energy conservation standards for all Class A external power supplies to meet.

DATES: This correction is effective April 16, 2012.

FOR FURTHER INFORMATION CONTACT:

Mr. Victor Petrolati, U.S. Department of Energy, Office of Energy Efficiency and Renewable Energy, Building Technologies Program, EE-2J, 1000 Independence Avenue SW., Washington, DC 20585-0121. Telephone: (202) 586-4549. Email: Victor.Petrolati@ee.doe.gov.

Mr. Michael Kido, U.S. Department of Energy, Office of the General Counsel, GC-71, 1000 Independence Avenue SW., Washington, DC 20585-0121. Telephone: (202) 586-8145. Email: michael.kido@hq.doe.gov.

SUPPLEMENTARY INFORMATION:

Background

The Energy Independence and Security Act of 2007 (Pub. L. 110-140) amended section 325(u)(3) of the Energy Policy and Conservation Act (EPCA) to establish energy conservation standards for all Class A external power supplies. (42 U.S.C. 6295(u)(3)) Those standards consisted of minimum efficiency levels that these products must meet during active mode (i.e. when an external power supply is in actual use) and no-load mode (i.e. when an external power supply is plugged into AC mains but its output is not connected to an electrical load). DOE added these standards to its regulations as part of a final rule that incorporated a series of statutorily-prescribed changes made by the Energy Independence and Security Act of 2007 (Pub. L. 110-140) (Dec. 19, 2007). That final rule was published on March 23, 2009. See 74 FR 12058.

Subsequently, Congress revisited elements of the no-load standards that it had prescribed for Class A external power supplies. On January 4, 2011, Congress enacted Public Law 111-360, which amended section 325(u)(3) of EPCA (42 U.S.C. 6295(u)(3)) by defining a new term—“security or life safety alarm or surveillance system”—and excluding those external power supplies used in certain security or life safety alarms or surveillance system components from the no-load mode requirements Congress had previously set. To address this change, DOE issued a technical amendment to codify verbatim in regulation these statutory changes. See 76 FR 57897 (Sept. 19, 2011).

Recently, DOE discovered that the amendatory language used in modifying the regulatory text to account for the January 2011 statutory changes to EPCA resulted in the Office of the Federal Register removing the statutory Class A external power supply standards from the regulations. Today's document addresses that error by re-inserting these pre-existing statutory standards into the regulations at 10 CFR 430.32(w)(1)(i) where they were located previously. DOE notes that, in spite of this inadvertent removal, the standards have remained in effect by virtue of their continued existence as a statutory requirement. See 42 U.S.C. 6295(u)(3)(A).

Pursuant to authority at 5 U.S.C. 553(b)(B), the DOE finds good cause to waive the requirement for prior notice and an opportunity for public comment on this rulemaking because such procedures would be unnecessary. As DOE is merely re-inserting into the Code of Federal Regulations statutory standards already applicable to these products prior notice and an opportunity for public comment would serve no useful purpose. For the same reason, DOE finds good cause under 5 U.S.C. 553(d)(3) to waive the 30-day delay in effective date and make this rule effective immediately.

List of Subjects in 10 CFR Part 430

Administrative practice and procedure, Confidential business information, Energy conservation, Household appliances, and Small businesses.

Issued in Washington, DC, on April 9, 2012.
Kathleen B. Hogan,
Deputy Assistant Secretary for Energy Efficiency, Energy Efficiency and Renewable Energy.

For the reasons set forth in the preamble, DOE corrects 10 CFR part 430 as set forth below:

PART 430—ENERGY CONSERVATION PROGRAM FOR CONSUMER PRODUCTS

1. The authority citation for part 430 continues to read as follows:

Authority: 42 U.S.C. 6291-6309; 28 U.S.C. 2461 note.

2. Section 430.32 is amended by revising paragraph (w)(1)(i) to read as follows:

§ 430.32 Energy and water conservation standards and their effective dates.

* * * * *

(w) Class A external power supplies. (1)(i) Except as provided in paragraphs (w)(1)(ii) and (w)(1)(iii) of this section, all Class A external power supplies manufactured on or after July 1, 2008, shall meet the following standards:

Nameplate output | Required efficiency (decimal equivalent of a percentage)
Active Mode
Less than 1 watt | 0.5 times the Nameplate output.
From 1 watt to not more than 51 watts | The sum of 0.09 times the Natural Logarithm of the Nameplate Output and 0.5.
Greater than 51 watts | 0.85.
No-Load Mode
Nameplate output | Maximum consumption
Not more than 250 watts | 0.5 watts.

* * * * *

[FR Doc. 2012-9036 Filed 4-13-12; 8:45 am]

BILLING CODE 6450-01-P